DEPARTMENT OF AGRICULTURE

Animal and Plant Health Inspection Service

[Docket No. APHIS-2023-0025]

Notice of Request for Extension of Approval of an Information Collection; Brucellosis and Bovine Tuberculosis: Importation of Cattle and Bison

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations governing importation of cattle and bison, specifically with regard to classification of regions at designated status levels for bovine tuberculosis and brucellosis, and establishing conditions for the importation of cattle and bison from regions with the various classifications.

DATES: We will consider all comments that we receive on or before May 30, 2023.

ADDRESSES: You may submit comments by either of the following methods:

• Federal eRulemaking Portal: Go to www.regulations.gov. Enter APHIS-2023-0025 in the Search field. Select the Documents tab, then select the Comment button in the list of documents.

• Postal Mail/Commercial Delivery: Send your comment to Docket No. APHIS-2023-0025, Regulatory Analysis and Development, PPD, APHIS, Station 3A-03.8, 4700 River Road, Unit 118, Riverdale, MD 20737-1238.

Supporting documents and any comments we receive on this docket may be viewed at regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations for bovine tuberculosis and brucellosis regionalization and associated importation of cattle and bison, contact Dr. Kari Coulson, Import Risk Analyst, Regionalization Evaluation Services, VS, APHIS, 920 Main Campus Drive, Raleigh, NC 27606; (919) 480-9876; email: AskRegionalization@usda.gov. For more information on the information collection reporting process, contact Mr. Joseph Moxey, APHIS' Paperwork Reduction Act Coordinator, at (301) 851-2483; joseph.moxey@usda.gov.

SUPPLEMENTARY INFORMATION:

Title: Brucellosis and Bovine Tuberculosis: Importation of Cattle and Bison.

OMB Control Number: 0579-0442.

Type of Request: Extension of approval of an information collection.

Abstract: Under the Animal Health Protection Act (7 U.S.C. 8301 et seq.), the Animal and Plant Health Inspection Service (APHIS) of the U.S. Department of Agriculture is authorized, among other things, to prohibit or restrict the importation and interstate movement of animals and animal products to prevent the introduction into and dissemination within the United States of livestock diseases and pests. To carry out this mission, APHIS regulates the importation of animals and animal products into the United States. APHIS' Veterinary Services is the program responsible for regulating these importations.

The regulations in 9 CFR part 93 contain, among other things, provisions that address the risk that imported bovines (cattle or bison) may introduce or disseminate brucellosis or bovine tuberculosis (TB) within the United States. On September 17, 2020, APHIS published in the Federal Register (85 FR 57944-57956) a final rule ¹ that amended these regulations to establish a system to classify foreign regions at designated status levels for bovine TB and brucellosis; to establish provisions for modifying the TB or brucellosis classification of a foreign region; and to establish conditions for the importation of cattle and bison from regions with the various classifications.

¹ To see the final rule, go to www.regulations.gov. Enter APHIS-2011-0044 in the Search field.

TB is a contagious disease of both animals and humans. Bovine TB, caused by Mycobacterium bovis (M. bovis), can be transmitted from livestock to humans and other animals. Brucellosis is an infectious disease of animals and humans caused by the bacteria of the genus Brucella. The disease is characterized by abortions and impaired fertility in its principal animal hosts. Brucellosis is mainly a disease of cattle, bison, and swine; Brucella abortus is associated with the disease in cattle and bison. There is no economically feasible treatment for brucellosis in livestock.

The activities associated with the regulations include the request for regional classification and additional information about a region, an application for recognition of regional classification (TB and brucellosis), maintaining classification and reclassification, and the official identification and certification.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 14.6 hours per response.

Respondents: Foreign animal health officials, importers, and exporters.

Estimated annual number of respondents: 21.

Estimated annual number of responses per respondent: 3.

Estimated annual number of responses: 62.

Estimated total annual burden on respondents: 907 hours. (Due to averaging, the total annual burden hours may not equal the product of the annual number of responses multiplied by the reporting burden per response.)

All responses to this notice will be summarized and included in the request for OMB approval. All comments will also become a matter of public record.

Done in Washington, DC, this 27th day of March 2023.
Michael Watson,
Acting Administrator, Animal and Plant Health Inspection Service.

[FR Doc. 2023-06720 Filed 3-30-23; 8:45 am]

BILLING CODE 3410-34-P